DEPARTMENT OF COMMERCE

International Trade Administration, Commerce.

Export Trade Certificate of Review

ACTION: Notice of issuance of an amended Export Trade Certificate of Review, Application No. 97-4A0003.

SUMMARY: The Department of Commerce has issued an amendment to the Export Trade Certificate of Review granted to The Association for the Administration of Rice Quotas, Inc. (“AARQ”) on April 10, 2001. Notice of issuance of the original Certificate was published in the Federal Register on January 28, 1998 (63 FR 4220).

FOR FURTHER INFORMATION CONTACT: Vanessa M. Bachman, Acting Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under section 305(a) of the Act and 15 CFR 325.11(a), any person aggrieved by the Secretary's determination may, within 30 days of the date of this notice, bring an action in any appropriate district court of the United States to set aside the determination on the ground that the determination is erroneous.

Description of Amended Certificate

Export Trade Certificate of Review No. 97-00003, was originally issued to AARQ on January 21, 1998 (63 FR 4220, January 28, 1998).

AARQ's Export Trade Certificate of Review has been amended to:

1. Delete the following company as a “Member” of the Certificate within the meaning of § 325.2(1) of the Regulations (15 CFR 325.2(1)): ContiGroup Companies, Inc., New York, New York;

2. Add the following companies as new “Members” of the Certificate within the meaning of § 325.2(1) of the Regulations (15 CFR 325.2(1)): Alliance Grain, Inc., Voorhees, NJ (Controlling Entity: ConAgra Foods, Inc., Omaha); Associated Rice Marketing Cooperative, Durham, CA; California Rice Marketing, LLC, Sacramento, CA; The Sun Valley Rice Co., LLC, Arbuckle; and

3. Change the listings of the current Members as follows: “AC HUMKO, Corp., Cordova, Tennessee” to “ACH Food Companies, Inc., Cordova, Tennessee;” California Commodity Traders, LLC, Sacramento, California” to “California Commodity Traders, LLC, Robbins, California and its affiliate, American Commodity Company, LLC, Robbins, California;” “ConAgra, Inc. for the activities of KBC Trading and Processing Company, Stockton, California” to “ConAgra Foods, Inc., Omaha, Nebraska, and its subsidiary, Alliance Grain, Inc., Voorhees, New Jersey;” “Kennedy Rice Dryers, Inc., Mer Rouge, Louisiana” to'Kennedy Rice Dryers, L.L.C., Mer Rouge, Louisiana;” “Kitoku America, Inc., Davis, California (a subsidiary of Kitoku Co., Ltd.)” to “Kitoku America, Inc., Davis, California (a subsidiary of Kitoku Shinryo Co., Ltd.);” “Newfield Partners Ltd., Miami, Florida” to “Newfieldrice, Inc., Miami, Florida;” “The Connell Company, Westfield, New Jersey” to “The Connell Company, Berkeley Heights, New Jersey.”

A copy of the amended certificate will be kept in the International Trade Administration's Freedom of Information Records Inspection Facility, Room 4102, U.S. Department of Commerce, 14th Street and Constitution Avenue, NW., Washington, DC 20230.

Effective Date: January 10, 2001.
Dated: April 23, 2001.
Vanessa M. Bachman,
Acting Director, Office of Export Trading Company Affairs.

[FR Doc. 01-10647 Filed 4-27-01; 8:45 am]

BILLING CODE 3510-DR-P